DEPARTMENT OF TRANSPORTATION

Federal Aviation Administration

Eighteenth Meeting: RTCA Special Committee 225, Rechargeable Lithium Battery and Battery Systems

AGENCY: Federal Aviation Administration (FAA), U.S. Department of Transportation (DOT).

ACTION: Meeting notice of RTCA Special Committee 225, Rechargeable Lithium Battery and Battery Systems.

SUMMARY: The FAA is issuing this notice to advise the public of the eighteenth meeting of the RTCA Special Committee 225, Rechargeable Lithium Battery and Battery Systems.

DATES: The meeting will be held January 20-22, 2015 from 9:00 a.m.-5:00 p.m.

ADDRESSES: The meeting will be held at RTCA Headquarters, 1150 18th Street NW., Suite 910, Washington DC 20036.

FOR FURTHER INFORMATION CONTACT: The RTCA Secretariat, 1150 18th Street NW., Suite 910, Washington, DC 20036, or by telephone at (202) 330-0662/(202) 833-9339, fax (202) 833-9434, or Web site at http://www.rtca.org. In addition, Jennifer Iversen may be contacted directly at email: jiversen@rtca.org.

SUPPLEMENTARY INFORMATION: Pursuant to section 10(a)(2) of the Federal Advisory Committee Act (Pub. L. 92-463, 5 U.S.C., App.), notice is hereby given for a meeting of Special Committee 225. The agenda will include the following:

January 20th

• Introductions and administrative items (including DFO & RTCA Statement).

• Review agenda.

• Review and approval of summary from the last Plenary.

• Review proposed changes to DO-311A as a result of NTSB final report.

• Update DO-311A plan (WG meetings, Plenary schedule, Status of FRAC comments, PMC meeting)

• Adjourn to working group to disposition FRAC comments

• Review action items.

January 21st

• Review agenda, other actions.

• Adjourn to working group to disposition FRAC comments

• Review action items.

January 22nd

• Review agenda, other actions.

• Finalize plan/future meetings, if needed.

• Adjourn to working group to disposition FRAC comments

• Working Group Report

• Review action items.

• Approve DO-311A for submission to the PMC and final publication.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on December 16, 2014.
Mohannad Dawoud,
Management Analyst, NextGen, Program Oversight and Administration, Federal Aviation Administration.

[FR Doc. 2014-29909 Filed 12-19-14; 8:45 am]

BILLING CODE 4910-13-P